FEDERAL MARITIME COMMISSION

Sunshine Act; Meeting

AGENCY HOLDING THE MEETING:

Federal Maritime Commission.

TIME AND DATE: 10 a.m.—February 11, 2003.

PLACE: 800 North Capitol Street, NW., First Floor Hearing Room, Washington, DC.

STATUS: The meeting previously announced (68 FR 6455 (February 7, 2003)) for February 11, 2003 has been canceled.

CONTACT PERSON FOR MORE INFORMATION: Bryant L. VanBrakle, Secretary, (202) 523-5725.

Bryant L. VanBrakle,
Secretary.

[FR Doc. 03-3596 Filed 2-10-03; 2:17 pm]

BILLING CODE 6730-01-P